NATIONAL FOUNDATION OF THE ARTS AND HUMANITIES

National Endowment for the Arts

Senior Executive Service Performance Review Board Members

ACTION: Notice.

SUMMARY: This notice announces the membership of the National Endowment for the Arts (NEA) Senior Executive Service (SES) Performance Review Board (PRB).

DATES: Applicable December 5, 2022.

ADDRESSES: Send comments concerning this notice to: National Endowment for the Arts, 400 7th Street SW, Washington, DC 20506.

FOR FURTHER INFORMATION CONTACT: Craig McCord Sr. by telephone at (202) 706-4163 or by email to mccordc@arts.gov.

SUPPLEMENTARY INFORMATION: 4314 (c)(1) through (5) of title 5, U.S.C., requires each agency to establish, in accordance with regulations prescribed by the Office of Personnel Management, one or more SES Performance Review Boards. The Board shall review and evaluate the initial appraisal of a senior executive's performance by the supervisor, along with any response by the senior executive, and make recommendations to the appointing authority relative to the performance of the senior executive.

The following persons have been selected to serve on the Performance Review Board of the National Endowment for the Arts (NEA):

Ra Joy—Chief of Staff, NEA

Ann Eilers—Deputy Chairman for Management & Budget, NEA

James Tunnessen—Chief Information Officer, NEA

Sunil Iyengar—Director, Research & Analysis, NEA

Anthony Mitchell—Chief Human Capital Officer, NEH

Adam Wolfson—Assistant Chairman for Programs, NEH

Nancy Weiss—General Counsel, IMLS

Dated: December 7, 2022.
Bonita Smith,
Director, Office of Administrative Services and Contracts, National Endowment for the Arts.

[FR Doc. 2022-26941 Filed 12-9-22; 8:45 am]

BILLING CODE 7537-01-P